ENVIRONMENTAL PROTECTION AGENCY

[ER-FRL-6623-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated May 18, 2001 (97 FR 27647).

Draft EISs

ERP No. D-AFS-J65338-UT Rating EC2, Units National Forest Revised Land and Resource Management Plan, Implementation, Juab, Sanpete, Tooele, Utah and Wasatch Counties, UT.

Summary

EPA expressed environmental concerns with the small number of wilderness area acres recommended for designation in the two preferred alternatives compared to the 594,350 acres that qualified and the lack of management guidelines and the analysis of potential impacts to water quality that would result from increasing motorized trail use.

ERP No. D-AFS-J65349-UT Rating EC2, Griffin Springs Resource Management Project, Implementation, Commercial Timber Harvesting, Aspen Regeneration, Management Ignited Prescribed Fire, and Road Work, Dixie National Forest, Escalante Ranger District, Garfield County, UT.

Summary

EPA expressed environmental concerns with potential adverse impacts from road upgrades and maintenance, beetle suppression and routine management activities to old growth forests, wetlands and wildlife. The FEIS should include additional site specific analysis/description of road and beetle management strategies.

ERP No. D-AFS-J65352-MT Rating EC2, Kelsey-Beaver Fire Recovery Project, Implementation of Fuel Reduction and Salvage of Fire-Killed Trees within Roderick South, Kelsey Creek, and Upper Beaver Areas, Kootenai National Forest, Three Rivers Ranger District, Lincoln County, MT.

Summary

EPA supported proposed watershed and road system improvements. EPA expressed environmental concerns with the limited range of alternatives analyzed and potential adverse impacts to water quality. EPA recommended that additional winter logging be considered and stabilization of eroding banks on streams to reduce sediment production. EPA also suggests the final EIS address the consistency of proposed actions with State TMDL development needs for the 303(d) listed South Fork Yaak River.

ERP No. D-NPS-D65023-DC Rating LO, Mary McLeod Bethune Council House National Historic Site, Implementation, General Management Plan, Washington, DC.

Summary

EPA expressed lack of objections and concurs with the selection of Alternative 2.

ERP No. DS-AFS-J65288-CO Rating EC2, Uncompahgre National Forest Travel Plans Revision, and Forest Plan Amendment, Updated Information, Grand Mesa, Uncompahgre and Gunnison National Forests, Garrison, Hinsdale Mesa, Montrose, Ouray, San Juan Counties, CO.

Summary

EPA expressed environmental concerns with the lack of detail provided for the monitoring plan and its implementation and there are no adaptative management strategies discussed to address unanticipated impacts to natural resources.

ERP No. DS-MMS-L67008-ID Rating EO2, Smoky Canyon Mine Panels B and C, Propose to Mine Phosphate Ore Reserves in the Final Two Mine Panels, National Forest System Lands and Federal Mineral Leases, Caribou National Forest, Permit, Caribou County, ID.

Summary

EPA expressed environmental objections based on predicted selenium contamination of the Wells Formation aquifer exceeding the national ground water standard, the absence of a low-permeable cap design to minimize impacts to ground water, a narrow project scope which did not examine impacts from continued use of the tailings pond and possible mitigation measures, and inadequate mitigation, monitoring, and financial assurance for the entire project. EPA requested that these issues be addressed before issuing a final EIS.

Final EISs

ERP No. F-BLM-K65340-NV Reno Clay Plant Project, Construct and Operate an Open-Pit Clay Mine and Ore Processing Facility, Plan-of-Operations, Oil-Dri Corporation of Nevada, Hungry Valley, Washoe County, NV.

Summary

EPA expressed continuing environmental concerns regarding the project's potential impacts to water quality and the need for additional information regarding monitoring and mitigation to address air and water quality concerns. Any adverse impacts from the project would disproportionately affect the Reno-Sparks Indian Colony adjacent to the project site. EPA commended BLM and Oil-Dri for working with a private land owner to secure a road right-of-way that will reduce air, noise and traffic impacts to local residents. EPA will review Washoe County AQMD's draft minor source air permit when it becomes available for public review.

ERP No. F-FHW-G40157-TX Tyler Loop 49 West, Construction from the TX-155

Highway to I-20 Highway, Funding, NPDES and

COE Section 404 Permits, Smith County, TX.

Summary

EPA had no objections to the action as proposed.

ERP No. F-NPS-G65079-OK Washita Battlefield National Historic Site, General Management Plan, Implementation, Roger Mill County, OK.

Summary

EPA had no objections or comments on the Final EIS.

Dated: October 23, 2001.
Joseph C. Montgomery,
Director, NEPA Compliance Division, Office of Federal Activities.

[FR Doc. 01-27044 Filed 10-25-01; 8:45 am]

BILLING CODE 6560-50-U